DEPARTMENT OF COMMERCE

International Trade Administration

(C-408-046, A-423-077, A-427-078, A-428-082)

Sugar from the European Union, Belgium, France and Germany; Extension of Time Limits for the Preliminary and Final Results of Sunset Reviews of Countervailing and Antidumping Duty Orders

AGENCY: Import Administration, International Trade Administration, Department of Commerce.

EFFECTIVE DATE: December 27, 2004.

FOR FURTHER INFORMATION CONTACT: Martha Douthit or Hilary Sadler, Import Administration, International Trade Administration, U.S. Department of Commerce, 14th Street & Constitution Avenue, NW, Washington, DC 20230; telephone: (202) 482-5050 and (202) 482-4340, respectively.

Background:

Based on adequate responses from the domestic and respondent interested parties, the Department of Commerce (“the Department”) is conducting a full sunset review, with respect to the countervailing duty (“CVD”) order on sugar from the European Union (“EU”), to determine whether revocation of the CVD order would lead to continuation or recurrence of a countervailing net subsidy. Based on adequate domestic interest, and inadequate respondent responses, the Department is conducting expedited sunset reviews of the antidumping duty (“AD”) orders on sugar from Belgium, France and Germany. The preliminary results of the full sunset review of the CVD order on sugar from the EU is currently scheduled for

December 20, 2004. The final results of the expedited sunset reviews of the AD orders on sugar from Belgium, France, and Germany are currently scheduled for December 30, 2004.

Extension of Preliminary and Final Results of Reviews:

In accordance with section 751(c)(5)(B) of the Tariff Act of 1930, as amended (“the

Act”), the Department may extend the period of time for making its determination by not more than 90 days, if it determines that the review is extraordinarily complicated. As set forth in 751(c)(5)(C)(v) of the Act, the Department may treat a sunset review as extraordinarily complicated if it is a review of a transition order, as is the case in these proceedings. Therefore, the Department has determined, pursuant to section 751(c)(5)(C)(v) of the Act, that the second sunset review of the CVD order on sugar from the EU and the second sunset reviews of the AD orders on sugar from Belgium, France and Germany are extraordinarily complicated and require additional time for the Department to complete its analysis. As a result, the Department will extend the deadlines in these proceedings and intends to issue the preliminary results of the full sunset review of the CVD order on sugar from the EU on or about March 20, 2005, and the final results of the expedited sunset reviews of the AD orders on sugar from Belgium, France and Germany on or about March 30, 2005, in accordance with section 751(c)(5)(B).

Dated: December 17, 2004.
Barbara E. Tillman,
Acting Deputy Assistant Secretary for Import Administration.

[FR Doc. E4-3820 Filed 12-23-04; 8:45 am]

BILLING CODE 6717-01-P